DEPARTMENT OF HOMELAND SECURITY

U.S. Citizenship and Immigration Services

[CIS No. 2618-18; DHS Docket No. USCIS-2013-0001]

RIN 1615-ZB72

Extension of the Designation of Syria for Temporary Protected Status

AGENCY: U.S. Citizenship and Immigration Services, Department of Homeland Security.

ACTION: Notice.

SUMMARY: Through this Notice, the Department of Homeland Security (DHS) announces that the Secretary of Homeland Security (Secretary) is extending the designation of Syria for Temporary Protected Status (TPS) for 18 months, from April 1, 2018, through September 30, 2019. The extension allows currently eligible TPS beneficiaries to retain TPS through September 30, 2019, so long as they otherwise continue to meet the eligibility requirements for TPS. This Notice also sets forth procedures necessary for nationals of Syria (or aliens having no nationality who last habitually resided in Syria) to re-register for TPS and to apply for Employment Authorization Documents (EADs) with U.S. Citizenship and Immigration Services (USCIS). USCIS will issue new EADs with a September 30, 2019 expiration date to eligible Syria TPS beneficiaries who timely re-register and apply for EADs under this extension.

DATES: Extension of Designation of Syria for TPS: The 18-month extension of the TPS designation of Syria is effective April 1, 2018, and will remain in effect through September 30, 2019. The 60-day re-registration period runs from March 5, 2018 through May 4, 2018. (Note: It is important for re-registrants to timely re-register during this 60-day period and not to wait until their EADs expire.)

FOR FURTHER INFORMATION CONTACT:

• You may contact Samantha Deshommes, Branch Chief, Regulatory Coordination Division, Office of Policy and Strategy, U.S. Citizenship and Immigration Services, U.S. Department of Homeland Security, 20 Massachusetts Avenue NW, Washington, DC 20529-2060; or by phone at 800-375-5283.

• If you have additional questions about Temporary Protected Status, please visit uscis.gov/tools. Our online virtual assistant, Emma, can answer many of your questions and point you to additional information on our website. If you are unable to find your answers there, you may also reach out to our USCIS contact center at 800-375-5283.

• Applicants seeking information about the status of their individual cases can check Case Status Online, available at the USCIS website at http://www.uscis.gov, or call the USCIS National Customer Service Center at 800-375-5283 (TTY 800-767-1833). Service is available in English and Spanish.

• Further information will also be available at local USCIS offices upon publication of this Notice.

SUPPLEMENTARY INFORMATION:

Table of Abbreviations

BIA—Board of Immigration Appeals

DHS—Department of Homeland Security

EAD—Employment Authorization Document

FNC—Final Nonconfirmation

Government—U.S. Government

IJ—Immigration Judge

INA—Immigration and Nationality Act

IER—U.S. Department of Justice Civil Rights Division, Immigrant and Employee Rights Section (IER)

SAVE—USCIS Systematic Alien Verification for Entitlements Program

Secretary—Secretary of Homeland Security

TNC—Tentative Nonconfirmation

TPS—Temporary Protected Status

TTY—Text Telephone

USCIS—U.S. Citizenship and Immigration Services

Through this Notice, DHS sets forth procedures necessary for eligible nationals of Syria (or aliens having no nationality who last habitually resided in Syria) to re-register for TPS and to apply for renewal of their EADs with USCIS. Re-registration is limited to persons who have previously registered for TPS under the designation of Syria and whose applications have been granted. Certain individuals may be eligible to file a late initial application for TPS if they meet the conditions described in 8 CFR 244.2(f)(2). In addition to meeting other eligibility criteria, initial applicants for TPS under this extension must demonstrate that they have been continuously residing in the United States since August 1, 2016, and continuously physically present in the United States since October 1, 2016. Information on late initial filing is also available on the USCIS TPS website link at www.uscis.gov/tps.

For individuals who have already been granted TPS under Syria's designation, the 60-day re-registration period runs from March 5, 2018 through May 4, 2018. USCIS will issue new EADs with a September 30, 2019 expiration date to eligible Syrian TPS beneficiaries who timely re-register and apply for EADs. Given the timeframes involved with processing TPS re-registration applications, DHS recognizes that not all re-registrants will receive new EADs before their current EADs expire on March 31, 2018. Accordingly, through this Federal Register notice, DHS automatically extends the validity of EADs issued under the TPS designation of Syria for 180 days, through September 27, 2018. This Notice explains how TPS beneficiaries and their employers may determine which EADs are automatically extended and how this affects the Form I-9, Employment Eligibility Verification, and E-Verify processes.

Individuals who have a pending Syria TPS application will not need to file a new Application for Temporary Protected Status (Form I-821). DHS provides additional instructions in this Notice for individuals whose TPS applications remain pending and who would like to obtain an EAD valid through September 30, 2019. There are approximately 7,000 current beneficiaries under Syria's TPS designation

What is Temporary Protected Status (TPS)?

• TPS is a temporary immigration status granted to eligible nationals of a country designated for TPS under the Immigration and Nationality Act (INA), or to eligible persons without nationality who last habitually resided in the designated country.

• During the TPS designation period and so long as a TPS beneficiary continues to meet the requirements of TPS, he or she is eligible to remain in the United States, may not be removed, and is authorized to work and obtain an EAD.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to either:

○ The same immigration status or category that they maintained before TPS, if any (unless that status or category has since expired or been terminated); or

○ Any other lawfully obtained immigration status or category they received while registered for TPS, as long as it is still valid on the date TPS terminates.

When was Syria designated for TPS?

Former Secretary of Homeland Security Napolitano initially designated Syria for TPS on March 29, 2012, based on extraordinary and temporary conditions resulting from the Syrian military's violent suppression of opposition to President Bashar al-Assad's regime that prevented Syrian nationals from safely returning to Syria. See Designation of Syrian Arab Republic for Temporary Protected Status, 77 FR 19026 (Mar. 29, 2012). Following the initial designation, former Secretaries Napolitano and Johnson extended and redesignated Syria for TPS three times. Most recently, in 2016, former Secretary Johnson both extended Syria's designation and redesignated Syria for TPS for 18 months through March 31, 2018. See Extension and Redesignation of Syria for Temporary Protected Status, 81 FR 50533 (Aug. 1, 2016).

What authority does the Secretary have to extend the designation of Syria for TPS?

Section 244(b)(1) of the INA, 8 U.S.C. 1254a(b)(1), authorizes the Secretary, after consultation with appropriate agencies of the U.S. Government (Government), to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in a foreign state designated for TPS to determine whether the conditions for the TPS designation continue to be met. See INA section 244(b)(3)(A), 8 U.S.C. 1254a(b)(3)(A). If the Secretary does not determine that a foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending the TPS designation for Syria through September 30, 2019?

DHS has reviewed conditions in Syria. Based on the review, including input received from other U.S. Government agencies, the Secretary has determined that an 18-month extension is warranted because the ongoing armed conflict and extraordinary and temporary conditions that prompted Syria's 2016 redesignation for TPS persist.

Syria is engulfed in an ongoing civil war marked by brutal violence against civilians, egregious human rights violations and abuses, and a humanitarian disaster on a devastating scale across the country. Beginning in March 2011, the Syrian Arab Republic Government (SARG) mobilized the military to violently suppress citizens advocating for greater political freedoms, initiating a brutal crackdown, and employing excessive force against civilians, including arbitrary executions, killing and persecution of protestors and members of the media, arbitrary detentions, disappearances, torture, and ill-treatment in an effort to retain control of the country. Since the beginning of the conflict, as many as 500,000 Syrians are dead or missing. The SARG and its allies continue to wage a brutal war resulting in significant civilian casualties. On April 4, 2017, the Syrian military used chemical weapons on the village of Khan Sheikhoun.

The SARG's use of barrel bombs against civilians is an ongoing occurrence in major population centers, with thousands of bombs dropped in 2016 and 2017. Syrian regime forces dropped 613 barrel bombs in November 2017 alone, according to monthly reporting statistics from the Syrian Network for Human Rights.

After nearly seven years of armed conflict, over half of Syria's pre-war population has been forced to flee from their homes. There are 11.5 million displaced Syrians in the region, both inside Syria and in neighboring countries. The United Nations High Commissioner for Refugees has reported over 1,240,000 civilian displacements in the last 12 months alone. Every year of the conflict has seen a massive growth in refugees. In July 2012, there were 100,000 refugees. One year later, there were 1.5 million. As of January 2018, there were over 5.4 million Syrian refugees in the region.

Syria is experiencing a humanitarian crisis, with over 73% of the Syrian population in need of assistance. The humanitarian situation is particularly severe in areas besieged by the SARG. For example, an estimated 400,000 civilians in Eastern Ghouta have been pushed to the brink of famine since March 2017, when the government tightened its siege of the Damascus suburb. The Syrian regime adds to this suffering by regularly bombing and firing artillery and rockets into Eastern Ghouta. Malnutrition rates there are the highest seen so far in Syria since the beginning of the crisis. In a December 10, 2017 statement, the United Nations Children's Fund called for the immediate evacuation of scores of sick children from Eastern Ghouta. The U.S. Mission to the United Nations has decried the situation in Eastern Ghouta as “the latest version of the Assad regime's despicable `starve and surrender' strategy.” Although 29 critically-ill civilians were evacuated in late December 2017, the Department of State condemned the SARG for its ongoing blockade of humanitarian aid to the besieged area, where as of February 2018 hundreds still awaited medical evacuation, and many had died as they waited. Since early 2018, a new campaign of SARG airstrikes targeting major roads and hospitals has killed hundreds of civilians in Eastern Ghouta.

In northwestern Idlib province, a SARG offensive initiated in late December 2017 further threatens the safety and security of up to one million internally displaced civilians. As frequent airstrikes have forced civilians to evacuate the southern areas of Idlib, tens of thousands of newly displaced Syrians have amassed along the Turkish border seeking assistance.

Over 9 million Syrians are in need of emergency food assistance. As of September 2017, the United Nations World Food Program assessed that food production in Syria was at an all-time low and that the situation was showing no sign of improving. Due to an 800 percent increase in the consumer food price index between 2010 and 2016, 90 percent of Syrian households now spend over half of their income on food, compared with 25 percent before the crisis.

As of March 2017, 51 percent of Syrians lacked regular access to the public water system, relying instead on unregulated systems not tested for water purity. Schools and hospitals are significantly impacted by the lack of basic levels of sanitation, as well as the destruction of many facilities. Water shortages, particularly in Damascus, have exacerbated children's vulnerability to communicable diseases. In 2016, nearly half of Syria's current population suffered from the use of water as a weapon of war due to deliberate water cuts by warring factions.

Syria's medical system is in crisis. More than half of public hospitals and primary health centers have closed or are only partially functioning, and 11.5 million Syrians, including nearly 5 million children, do not have access to health care. SARG forces target Syrian medical personnel and facilities as part of their military strategy. Physicians for Human Rights has estimated that 98 percent of doctors have been killed or displaced in Aleppo. Outbreaks of preventable diseases are on the rise, including polio, which had been eradicated in Syria prior to the ongoing conflict.

Facing troop shortages after years of conflict, the Syrian military is increasingly relying on forced conscription to fill its ranks, launching large-scale arrests of military-age men through raids and checkpoints. In December 2016, SARG forces arrested and conscripted civilians fleeing rebel-held areas of Aleppo. In September 2017, the Syrian Network for Human Rights reported “almost daily raiding and arrest campaigns” focusing on males aged 18-42 years old for the purpose of military conscription. Numerous factions fighting the Syrian regime also forcibly recruit civilians, including children, to serve in combat roles. The self-described Islamic State of Iraq and Syria (ISIS) has the greatest reliance on child soldiers in Syria. Former ISIS child soldiers have described children as young as twelve being used as suicide bombers and children as young as six assisting in Islamic State executions.

Despite these circumstances, there have been incremental improvements in stability in Syria. In a January 17, 2018 speech, Secretary of State Tillerson noted that ISIS is substantially, but not completely defeated, although it continues to wage an insurgency that poses a threat to the Syrian people. He highlighted significant gains made in combatting the terrorist organization, including the liberation of Raqqa (ISIS's self-declared capital) and the vast majority of Syrian territory once held by ISIS. Secretary Tillerson highlighted the “catastrophic state of affairs . . . related to the continued lack of security and legitimate governance in Syria,” and acknowledged the essential role of a continued U.S. military presence in Syria to cement gains and help bring an end to the civil war.

Secretary Tillerson related that U.S. efforts have helped tens of thousands of Syrian refugees and hundreds of thousands of internally-displaced persons return to their homes. According to the United Nations Office for the Coordination of Humanitarian Affairs, the number of Syrians returning to their homes in 2017 increased from 2016, with 721,000 Syrians returning home in 2017 (655,000 of whom were internally-displaced persons and approximately 66,000 of whom were refugees), compared to 560,000 returning in 2016. However, new displacement and attempts to flee Syria outstripped returns by 3 to 1 in 2017, and the UN has stated that large-scale returns now could have a catastrophic effect given the lack of safe conditions and the availability of basic infrastructure.

Based upon this review and after consultation with appropriate Government agencies, the Secretary has determined that:

• The conditions supporting the 2016 redesignation of Syria for TPS continue to be met. See INA section 244(b)(3)(A) and (C), 8 U.S.C. 1254a(b)(3)(A) and (C).

• There continues to be an ongoing armed conflict in Syria and, due to such conflict, requiring the return of Syrian nationals (or aliens having no nationality who last habitually resided in Syria) to Syria would pose a serious threat to their personal safety. See INA section 244(b)(1)(A), 8 U.S.C. 1254a(b)(1)(A).

• There continue to be extraordinary and temporary conditions in Syria that prevent Syrian nationals (or aliens having no nationality who last habitually resided in Syria) from returning to Syria in safety, and it is not contrary to the national interest of the United States to permit Syrian TPS beneficiaries to remain in the United States temporarily. See INA section 244(b)(1)(C), 8 U.S.C. 1254a(b)(1)(C).

• The designation of Syria for TPS should be extended for an 18-month period, from April 1, 2018 through September 30, 2019. See INA section 244(b)(3)(C), 8 U.S.C. 1254a(b)(3)(C).

Notice of Extension of the TPS Designation of Syria

By the authority vested in me as Secretary under INA section 244, 8 U.S.C. 1254a, I have determined, after consultation with the appropriate Government agencies, the conditions that supported Syria's 2016 redesignation for TPS continue to be met. See INA section 244(b)(3)(A), 8 U.S.C. 1254a(b)(3)(A). On the basis of this determination, I am extending the existing designation of TPS for Syria for 18 months, from April 1, 2018, through September 30, 2019. See INA section 244(b)(1)(A), (b)(1)(C); 8 U.S.C. 1254a(b)(1)(A), (b)(1)(C).

Kirstjen M. Nielsen,
Secretary.

Required Application Forms and Application Fees To Register or Re-register for TPS

To re-register for TPS based on the designation of Syria, you must submit an Application for Temporary Protected Status (Form I-821). You do not need to pay the filing fee for the Form I-821. See 8 CFR 244.17. You may be required to pay the biometric services fee. Please see additional information under the “Biometric Services Fee” section of this Notice.

Through operation of this Federal Register notice, your existing EAD issued under the TPS designation of Syria with the expiration date of March 31, 2018, is automatically extended for 180 days, through September 27, 2018. You do not need to apply for a new EAD in order to benefit from this 180-day automatic extension. However, if you want to obtain a new EAD valid through September 30, 2019, you must file an Application for Employment Authorization (Form I-765) and pay the Form I-765 fee (or request a fee waiver). Note, if you do not want a new EAD, you do not have to file Form I-765 or pay the Form I-765 fee. If you do not want to request a new EAD now, you may also file Form I-765 at a later date and pay the fee (or request a fee waiver), provided that you still have TPS or a pending TPS application. But unless you timely re-register and properly file an EAD application in accordance with this Notice, the validity of your current EAD will end on September 27, 2018. You may file the application for a new EAD either prior to or after your current EAD has expired. However, you are strongly encouraged to file your application for a new EAD as early as possible to avoid gaps in the validity of your employment authorization documentation and to ensure that you receive your new EAD by September 27, 2018.

If you are seeking an EAD with your re-registration for TPS, please submit both the Form I-821 and Form I-765 together. If you are unable to pay the application fee and/or biometric services fee, you may complete a Request for Fee Waiver (Form I-912) or submit a personal letter requesting a fee waiver with satisfactory supporting documentation. For more information on the application forms and fees for TPS, please visit the USCIS TPS web page at http://www.uscis.gov/tps. Fees for the Form I-821, the Form I-765, and biometric services are also described in 8 CFR 103.7(b)(1)(i).

Note: If you have a Form I-821 and/or Form I-765 that was still pending as of March 5, 2018, then you do not need to file either application again. If your pending TPS application is approved, you will be granted TPS through September 30, 2019. Similarly, if you have a pending TPS-related application for an EAD that is approved, it will be valid through the same date.

Biometric Services Fee

Biometrics (such as fingerprints) are required for all applicants 14 years of age or older. Those applicants must submit a biometric services fee. As previously stated, if you are unable to pay for the biometric services fee, you may apply for a fee waiver by completing a Form I-912 or by submitting a personal letter requesting a fee waiver, and providing satisfactory supporting documentation. For more information on the biometric services fee, please see the instructions to Form I-821 or visit the USCIS website at http://www.uscis.gov. If necessary, you may be required to visit an Application Support Center (ASC) to have your biometrics captured. In such a case, USCIS will send you an ASC scheduling notice. For additional information on the USCIS biometrics screening process, please see the USCIS Customer Profile Management Service Privacy Impact Assessment, available at www.dhs.gov/privacy.

Re-filing a Re-registration TPS Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. This situation will be reviewed to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you . . . | Mail to . . .
Are sending through the U.S. Postal Service | USCIS, Attn: TPS Syria, P.O. Box 6943, Chicago, IL 60680-6943.
Are sending by FedEx, UPS, or DHL | USCIS, Attn: TPS Syria, 131 S. Dearborn Street, 3rd Floor, Chicago, IL 60603-5517.

If you were granted TPS by an Immigration Judge (IJ) or the Board of Immigration Appeals (BIA) and wish to request an EAD or are re-registering for the first time following a grant of TPS by an IJ or the BIA, please mail your application to the appropriate mailing address in Table 1. When re-registering and/or requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying or registering for TPS on the USCIS website at www.uscis.gov/tps under “Syria.”

Employment Authorization Document (EAD)

How can I get information on the status of my EAD request?

To get case status information about your TPS application, including the status of a request for an EAD, you can check Case Status Online, available at http://www.uscis.gov, or call the USCIS National Customer Service Center at 800-375-5283 (TTY 800-767-1833). If your Form I-765 has been pending for more than 90 days, and you still need assistance, you may request an EAD inquiry appointment with USCIS by using the InfoPass system at https://infopass.uscis.gov. However, we strongly encourage you first to check Case Status Online or call the USCIS National Customer Service Center for assistance before making an InfoPass appointment.

Am I eligible to receive an automatic 180-day extension of my current EAD through September 27, 2018, using this Federal Register notice?

Yes. Provided that you currently have a Syria TPS-based EAD, this Federal Register notice automatically extends your EAD by 180 days (through September 27, 2018) if you:

• Are a national of Syria (or an alien having no nationality who last habitually resided in Syria); and

• Have an EAD with a marked expiration date of March 31, 2018, bearing the notation A-12 or C-19 on the face of the card under Category.

Although this Federal Register notice automatically extends your EAD through September 27, 2018, you must re-register timely for TPS in accordance with the procedures described in this Federal Register notice if you would like to maintain your TPS.

When hired, what documentation may I show to my employer as evidence of employment authorization and identity when completing Employment Eligibility Verification (Form I-9)?

You can find a list of acceptable document choices on the “Lists of Acceptable Documents” for Form I-9. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which is evidence of employment authorization), or you may present an acceptable receipt for List A, List B, or List C documents as described in the Form I-9 Instructions. Employers may not reject a document based on a future expiration date. You can find additional detailed information about Form I-9 on USCIS' I-9 Central web page at http://www.uscis.gov/I-9Central.

An EAD is an acceptable document under List A. If your EAD has an expiration date of March 31, 2018, and states A-12 or C-19 under Category, it has been extended automatically for 180 days by virtue of this Federal Register notice and you may choose to present this Notice along with your EAD to your employer as proof of identity and employment eligibility for Form I-9 through September 27, 2018, unless your TPS has been withdrawn or your request for TPS has been denied. If you properly filed for a new EAD in accordance with this Notice, you will also receive Form I-797C, Notice of Action that will state your current A-12 or C-19 coded EAD is automatically extended for 180 days. You may choose to present your EAD to your employer together with this Form I-797C as a List A document that provides evidence of your identity and employment authorization for Form I-9 through September 27, 2018, unless your TPS has been withdrawn or your request for TPS has been denied. See the subsection titled, “How do my employer and I complete the Employment Eligibility Verification (Form I-9) using an automatically extended EAD for a new job?” for further information.

To reduce confusion over this extension at the time of hire, you should explain to your employer that your EAD has been automatically extended through September 27, 2018. You may also provide your employer with a copy of this Federal Register notice, which explains that your EAD has been automatically extended. As an alternative to presenting evidence of your automatically extended EAD, you may choose to present any other acceptable document from List A, a combination of one selection from List B and one selection from List C, or a valid receipt.

What documentation may I present to my employer for Employment Eligibility Verification (Form I-9) if I am already employed but my current TPS-related EAD is set to expire?

Even though your EAD has been automatically extended, your employer will need to ask you about your continued employment authorization no later than before you start work on April 1, 2018. You will need to present your employer with evidence that you are still authorized to work. Once presented, you may correct your employment authorization expiration date in Section 1 and your employer should correct the EAD expiration date in Section 2 of Form I-9. See the subsection titled, “What corrections should my current employer and I make to Employment Eligibility Verification (Form I-9) if my employment authorization has been automatically extended?” for further information. You may show this Federal Register notice to your employer to explain what to do for Form I-9 and to show that your EAD has been automatically extended through September 27, 2018. Your employer may need to re-inspect your automatically extended EAD to check the expiration date and Category code to record the updated expiration date on your Form I-9 if your employer did not keep a copy of this EAD when you initially presented it. In addition, if you properly filed your Form I-765 to obtain a new EAD, you will receive a Form I-797C, Notice of Action. Form I-797C will state that your current A-12 or C-19 coded EAD is automatically extended for 180 days. You may present Form I-797C to your employer along with your EAD to confirm that the validity of your EAD has been automatically extended through September 27, 2018, unless your TPS has been withdrawn or your request for TPS has been denied. To reduce the possibility of gaps in your employment authorization documentation, you should file your Form I-765 to request a new EAD as early as possible during the re-registration period.

The last day of the automatic EAD extension is September 27, 2018. Before you start work on September 28, 2018, your employer must reverify your employment authorization. At that time, you must present any document from List A or any document from List C on Form I-9 Lists of Acceptable Documents, or an acceptable List A or List C receipt described in the Form I-9 instructions to reverify employment authorization.

By September 28, 2018, your employer must complete Section 3 of the current version of the form, Form I-9 (version 07/17/17 N), and attach it to the previously completed Form I-9, if your original Form I-9 was a previous version. Your employer can check the USCIS' I-9 Central web page at http://www.uscis.gov/I-9Central for the most current version of Form I-9.

Note that your employer may not specify which List A or List C document you must present and cannot reject an acceptable receipt.

Can my employer require that I provide any other documentation to prove my status, such as proof of my Syrian citizenship?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of Syrian citizenship or proof of re-registration for TPS when completing Form I-9 for new hires or reverifying the employment authorization of current employees. If presented with EADs that have been automatically extended, employers should accept such documents as a valid List A document so long as the EAD reasonably appears to be genuine and relates to the employee. Refer to the Note to Employees section of this Federal Register notice for important information about your rights if your employer rejects lawful documentation, requires additional documentation, or otherwise discriminates against you based on your citizenship or immigration status, or your national origin.

How do my employer and I complete Employment Eligibility Verification (Form I-9) using my automatically extended employment authorization for a new job?

When using an automatically extended EAD to complete Form I-9 for a new job before September 28, 2018, you and your employer should do the following:

1. For Section 1, you should:

a. Check “An alien authorized to work until” and enter September 27, 2018, the automatically extended EAD expiration date as the “expiration date, if applicable, mm/dd/yyyy”; and

b. Enter your Alien Number/USCIS number or A-Number where indicated (your EAD and other documents from DHS will have your USCIS number or A-Number printed on it; the USCIS number is the same as your A-Number without the A prefix).

2. For Section 2, employers should:

a. Determine if the EAD is auto-extended for 180 days by ensuring it is in category A-12 or C-19 and has a March 31, 2018 expiration date;

b. Write in the document title;

c. Enter the issuing authority;

d. Provide the document number; and

e. Insert September 27, 2018, the date that is 180 days from the date the current EAD expires.

If you also filed for a new EAD, as proof of the automatic extension of your employment authorization, you may present your expired or expiring EAD with category A-12 or C-19 in combination with the Form I-797C Notice of Action showing that the EAD renewal application was filed and that the qualifying eligibility category is either A-12 or C-19. Unless your TPS has been withdrawn or your request for TPS has been denied, this document combination is considered an unexpired EAD under List A. In these situations, to complete Section 2, employers should:

a. Determine if the EAD is auto-extended for 180 days by ensuring:

• It is in category A-12 or C-19; and

• The category code on the EAD is the same category code on Form I-797C, noting that employers should consider category codes A-12 and C-19 to be the same category code.

b. Write in the document title;

c. Enter the issuing authority;

d. Provide the document number; and

e. Insert September 27, 2018, the date that is 180 days from the date the current EAD expires. Before the start of work on September 28, 2018, employers must reverify the employee's employment authorization in Section 3 of Form I-9.

What corrections should my current employer and I make to Employment Eligibility Verification (Form I-9) if my employment authorization has been automatically extended?

If you presented a TPS-related EAD that was valid when you first started your job and your EAD has now been automatically extended, your employer may need to re-inspect your current EAD if they do not have a copy of the EAD on file. You may, and your employer should, correct your previously completed Form I-9 as follows:

1. For Section 1, you may:

a. Draw a line through the expiration date in Section 1;

b. Write September 27, 2018, the date that is 180 days from the date your current EAD expires above the previous date (March 31, 2018); and

c. Initial and date the correction in the margin of Section 1.

2. For Section 2, employers should:

a. Determine if the EAD is auto-extended for 180 days by ensuring:

• It is in category A-12 or C-19; and

• Has an expiration date of March 31, 2018.

b. Draw a line through the expiration date written in Section 2;

c. Write September 27, 2018, the date that is 180 days from the date the employee's current EAD expires above the previous date (March 31, 2018); and

d. Initial and date the correction in the Additional Information field in Section 2.

In the alternative, if you properly applied for a new EAD, you may present your expired EAD with category A-12 or C-19 in combination with the Form I-797C Notice of Action. The Form I-797C should show that the EAD renewal application was filed and that the qualifying eligibility category is either A-12 or C-19. To avoid confusion, you may also provide your employer a copy of this Notice. Your employer should correct your previously completed Form I-9 as follows:

For Section 2, employers should:

a. Determine if the EAD is auto-extended for 180 days by ensuring:

• It is in category A-12 or C-19; and

• The category code on the EAD is the same category code on Form I-797C, noting that employers should consider category codes A-12 and C-19 to be the same category code.

b. Draw a line through the expiration date written in Section 2;

c. Write September 27, 2018, the date that is 180 days from the date the employee's current EAD expires above the previous date (March 31, 2018); and

d. Initial and date the correction in the Additional Information field in Section 2.

Note: This is not considered a reverification. Employers do not need to complete Section 3 until either the 180-day extension has ended or the employee presents a new document to show continued employment authorization, whichever is sooner. By September 28, 2018, when the employee's automatically extended EAD has expired, employers must reverify the employee's employment authorization in Section 3.

If I am an employer enrolled in E-Verify, how do I verify a new employee whose EAD has been automatically extended?

Employers may create a case in E-Verify for a new employee using the EAD bearing the expiration date March 31, 2018, or the Form I-797C receipt information provided on Form I-9. In either case, the receipt number entered as the document number on Form I-9 should be entered into the document number field in E-Verify.

If I am an employer enrolled in E-Verify, what do I do when I receive a “Work Authorization Documents Expiration” alert for an automatically extended EAD?

E-Verify automated the verification process for employees whose TPS-related EAD was automatically extended. If you have employees who are TPS beneficiaries who provided a TPS-related EAD when they first started working for you, you will receive a “Work Authorization Documents Expiring” case alert when the auto-extension period for this EAD is about to expire. This indicates that you should update Form I-9 in accordance with the instructions above. Before such an employee starts to work on September 28, 2018, employment authorization must be reverified in Section 3. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). The IER offers language interpretation in numerous languages. Employers may also email IER at IER@usdoj.gov.

Note to Employees

For general questions about the employment eligibility verification process, employees may call USCIS at 888-897-7781 (TTY 877-875-6028) or email USCIS at I-9Central@dhs.gov. Calls are accepted in English and Spanish. Translation services in other languages including Arabic are also available upon request. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from Federal or state government records.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your current EAD;

(2) A copy of your Notice of Action (Form I-797C), the notice of receipt, for your application to renew your current EAD providing an automatic extension of your currently expired or expiring EAD;

(3) A copy of your Notice of Action (Form I-797C), the notice of receipt, for your Application for Temporary Protected Status for this re-registration; and

(4) A copy of your Notice of Action (Form I-797), the notice of approval, for a past or current Application for Temporary Protected Status, if you received one from USCIS.

Check with the government agency regarding which document(s) the agency will accept. Some benefit-granting agencies use the USCIS Systematic Alien Verification for Entitlements (SAVE) program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2018-04454 Filed 3-1-18; 11:15 am]

BILLING CODE 9111-97-P